DEPARTMENT OF VETERANS AFFAIRS

[OMB Control No. 2900-0688]

Agency Information Collection (Procedures, and Security for Government Financing) Activities Under OMB Review

AGENCY: Office of Management, Department of Veterans Affairs.

ACTION: Notice.

SUMMARY: In compliance with the Paperwork Reduction Act (PRA) of 1995 (44 U.S.C. 3501—3521), this notice announces that the Office of Management (OM), Department of Veterans Affairs, has submitted the collection of information abstracted below to the Office of Management and Budget (OMB) for review and comment. The PRA submission describes the nature of the information collection and its expected cost and burden; it includes the actual data collection instrument.

DATE: Comments must be submitted on or before March 5, 2009.

ADDRESSES: Submit written comments on the collection of information through www.Regulations.gov; or to VA's OMB Desk Officer, OMB Human Resources and Housing Branch, New Executive Office Building, Room 10235, Washington, DC 20503 (202) 395-7316. Please refer to “OMB Control No. 2900-0688” in any correspondence.

FOR FURTHER INFORMATION OR A COPY OF THE SUBMISSION CONTACT: Denise McLamb, Enterprise Records Service (005R1B), Department of Veterans Affairs, 810 Vermont Avenue, NW., Washington, DC 20420, (202) 461-7485, FAX (202) 273-0443 or e-mail: denise.mclamb@mail.va.gov. Please refer to “OMB Control No. 2900-0688.”

SUPPLEMENTARY INFORMATION: Titles:

a. Department of Veterans Affairs Acquisition Regulation (VAAR) 832.006-4, Procedures.

b. Department of Veterans Affairs Acquisition Regulation (VAAR) 832.202-4, Security for Government Financing.

OMB Control Number: 2900-0688.

Type of Review: Extension of a currently approved collection.

Abstract: Data collected under VAAR 832.006-4 will be used to assess a contractor's overall financial condition, and ability to continue contract performance if payments are reduced or suspended upon a finding of fraud. VA will use the data collected under VAAR 832.202-4 to determine whether or not a contractor has adequate security to warrant an advance payment.

An agency may not conduct or sponsor, and a person is not required to respond to a collection of information unless it displays a currently valid OMB control number. The Federal Register Notice with a 60-day comment period soliciting comments on this collection of information was published on November 26, 2008 at pages 72116-72117.

Affected Public: Businesses or other for-profits.

Estimated Annual Burden:

a. VAAR 832.006-4, Procedures—50 hours

b. VAAR 832.202-4, Security for Government Financing—10 hours.

Estimated Average Burden per Respondent:

a. VAAR 832.006-4, Procedures—5 hours.

b. VAAR 832.202-4, Security for Government Financing—1 hour.

Frequency of Response: On occasion.

Estimated Number of Respondents:

a. VAAR 832.006-4, Procedures—10.

VAAR 832.202-4, Security for Government Financing—10.

Dated: January 27, 2009.
By direction of the Secretary:
Denise McLamb,
Program Analyst, Enterprise Records Service.

[FR Doc. E9-2261 Filed 2-2-09; 8:45 am]

BILLING CODE 8320-01-P